SOCIAL SECURITY ADMINISTRATION

20 CFR Part 404

[Docket No. SSA-2007-0026]

RIN 0960-AG51

Extension of the Expiration Date for Several Body System Listings

AGENCY: Social Security Administration (SSA).

ACTION: Final rule.

SUMMARY: We use the Listing of Impairments (the listings) at the third step of the sequential evaluation process when we evaluate your claim for benefits based on disability under title II and title XVI of the Social Security Act (the Act). This final rule extends until July 1, 2008, the date on which the listings for eight body systems will no longer be effective. Other than extending the effective date of the listings, we have made no revisions to the listings; they remain the same as they now appear in the Code of Federal Regulations. This extension will ensure that we continue to have the medical evaluation criteria in the listings to adjudicate disability claims involving these body systems at the third step of the sequential evaluation process.

DATES: This final rule is effective on June 19, 2007.

FOR FURTHER INFORMATION CONTACT: Jim Julian, Director, Office of Medical Policy, 6401 Security Boulevard, Baltimore, MD 21235-6401, (410) 965-4015. For information on eligibility or filing for benefits, call our national toll-free number, 1-800-772-1213 or TTY 1-800-325-0778, or visit out Internet site, Social Security Online, at http://www.socialsecurity.gov.

SUPPLEMENTARY INFORMATION:

Electronic Version

The electronic file of this document is available on the date of publication in the Federal Register at http://www.gpoaccess.gov/fr/index.html.

Background

We use the listings in appendix 1 to subpart P of part 404 at the third step of the sequential evaluation process to evaluate claims filed by adults and children for benefits based on disability under the title II and title XVI programs. The listings are in two parts. There are listings for adults (part A) and for children (part B). If you are an individual age 18 or over, we apply the listings in part A when we assess your claim, and we never use the listings in part B. If you are an individual under age 18, we first use the criteria in part B of the listings. Part B contains criteria that apply only to individuals who are under age 18. If the criteria in part B do not apply, we may use the criteria in part A when those criteria give appropriate consideration to the effects of the impairment(s) in children. (See §§ 404.1525 and 416.925.)

Explanation of Changes

In this final rule, we are extending until July 1, 2008, the date on which the listings for the following eight body systems will no longer be effective:

Growth Impairment (100.00).

Respiratory System (3.00 and 103.00).

Digestive System (5.00 and 105.00).

Hematological Disorders (7.00 and 107.00.

Endocrine System (9.00 and 109.00).

Neurological (11.00 and 111.00).

Mental Disorders (12.00 and 112.00).

Immune System (14.00 and 114.00).

As a result of medical advances in disability evaluation and treatment, and our program experience, we periodically review and update the listings. We intend to publish proposed and final rules to update the listings as expeditiously as possible. However, we will not be able to publish final rules revising the listings for these body systems by July 2, 2007, the current expiration date. Therefore, we are extending the current expiration date for the listings as indicated above.

In final rules published on June 16, 2005 (70 FR 35028), we extended to July 2, 2007, the date on which the listings for the following eight body systems would no longer be effective: Growth Impairment; Special Senses and Speech; Respiratory System; Hematological Disorders; Endocrine System; Neurological; Mental Disorders; and Immune System.

In final rules published on May 05, 2006 (71 FR 26411), we extended to July 2, 2007, the date on which the listings for the Digestive System would no longer be effective.

Not all listings require effective date extensions at this time. The following chart shows the listings that do not require effective date extensions and are not affected by this final rule.

Listing | Revised | Date no longer effective unless extended or revised and promulgated again
Musculoskeletal System 1.00 and 101.00 | November 19, 2001, 66 FR 58010 | February 19, 2009, 66 FR at 58037.
Special Senses and Speech 2.00 and 102.00 | November 20, 2006 (visual disorders) 71 FR 67037 | February 20, 2015, 71 FR at 67039.
Cardiovascular System 4.00 and 104.00 | January 13, 2006, 71 FR 2312 | January 13, 2011, 71 FR at 2313.
Genitourinary Impairments 6.00 and 106.00 | July 05, 2005, 70 FR 38582 | September 06, 2013, 70 FR at 38584.
Skin Disorders 8.00 and 108.00 | June 09, 2004, 69 FR 32260 | July 09, 2012, 69 FR at 32262.
Multiple Body Systems 10.00 and 110.00 | August 30, 2005, 70 FR 51252 | October 31, 2013, 70 FR at 51254.
Malignant Neoplastic Diseases 13.00 and 113.00 | November 15, 2004, 69 FR 67018 | December 15, 2009, 69 FR at 67019.

Regulatory Procedures

Justification for Final Rule

Pursuant to section 702(a)(5) of the Social Security Act, 42 U.S.C. 902(a)(5), we follow the Administrative Procedure Act (APA) rulemaking procedures specified in 5 U.S.C. 553 in the development of regulations. The APA provides exceptions to its notice and public comment procedures when an agency finds there is good cause for dispensing with such procedures on the basis that they are impracticable, unnecessary, or contrary to the public interest. We have determined that, under 5 U.S.C. 553(b)(B), good cause exists for dispensing with the notice and public comment procedures for this rule. Good cause exists because this final rule only extends the date on which these body system listings will no longer be effective. It makes no substantive changes to those listings. The current regulations expressly provide that listings may be extended, as well as revised and promulgated again. Therefore, we have determined that opportunity for prior comment is unnecessary, and we are issuing this regulation as a final rule.

In addition, we find good cause for dispensing with the 30-day delay in the effective date of a substantive rule provided by 5 U.S.C. 553(d)(3). As explained above, we are not making any substantive changes in these body system listings. Without an extension of the expiration dates for these listings, we will lack the medical evaluation criteria needed for assessing impairments in these body systems at the third step of the sequential evaluation process. In order to ensure that we continue to have these listings in our rules, we find that it is in the public interest to make this final rule effective on the date of publication.

Executive Order 12866

We have consulted with the Office of Management and Budget (OMB) and determined that this final rule does not meet the criteria for a significant regulatory action under Executive Order 12866, as amended. Thus, OMB did not review it. We have also determined that this final rule meets the plain language requirement of Executive Order 12866, as amended.

Regulatory Flexibility Act

We certify that this final rule does not have a significant economic impact on a substantial number of small entities because it affects only individuals. Therefore, a regulatory flexibility analysis, as provided in the Regulatory Flexibility Act, as amended, is not required.

Paperwork Reduction Act

This final rule imposes no reporting/recordkeeping requirements necessitating clearance by OMB.

(Catalog of Federal Domestic Assistance Program Nos. 96.001, Social Security-Disability Insurance; 96.002, Social Security-Retirement Insurance; 96.004, Social Security-Survivors Insurance; 96.006, Supplemental Security Income)

List of Subjects in 20 CFR Part 404

Administrative practice and procedure, Blind, Disability benefits, Old-Age, Survivors and Disability Insurance, Reporting and recordkeeping requirements, Social Security.

Dated: June 12, 2007.
Michael J. Astrue,
Commissioner of Social Security.

For the reasons set forth in the preamble, part 404, subpart P, chapter III of title 20 of the Code of Federal Regulations is amended as set forth below.

PART 404—FEDERAL OLD-AGE, SURVIVORS AND DISABILITY INSURANCE (1950— )

Subpart P—[Amended]

1. The authority citation for subpart P of part 404 continues to read as follows:

Authority: Secs. 202, 205(a), (b), and (d)-(h), 216(i), 221(a) and (i), 222(c), 223, 225, and 702(a)(5) of the Social Security Act (42 U.S.C. 402, 405(a), (b), and (d)-(h), 416(i), 421(a) and (i), 422(c), 423, 425, and 902(a)(5)); sec. 211(b), Pub. L. 104-193, 110 Stat. 2105, 2189; sec. 202, Pub. L. 108-203, 118 Stat. 509 (42 U.S.C. 902 note).

2. Appendix 1 to subpart P of part 404 is amended by revising items 1, 4, 6, 8, 10, 12, 13, and 15 of the introductory text before Part A to read as follows:

Appendix 1 to Subpart P of Part 404—Listing of Impairments

* * * * *

1. Growth Impairment (100.00): July 1, 2008.

* * * * *

4. Respiratory System (3.00 and 103.00): July 1, 2008.

* * * * *

6. Digestive System (5.00 and 105.00): July 1, 2008.

* * * * *

8. Hematological Disorders (7.00 and 107.00): July 1, 2008.

* * * * *

10. Endocrine System (9.00 and 109.00): July 1, 2008.

* * * * *

12. Neurological (11.00 and 111.00): July 1, 2008.

13. Mental Disorders (12.00 and 112.00): July 1, 2008.

* * * * *

15. Immune System (14.00 and 114.00): July 1, 2008.

* * * * *

[FR Doc. E7-11752 Filed 6-18-07; 8:45 am]

BILLING CODE 4191-02-P